NATIONAL AERONAUTICS AND SPACE ADMINISTRATION

[Notice: (10-025)]

NASA Advisory Council; Commercial Space Committee; Meeting

AGENCY: National Aeronautics and Space Administration.

ACTION: Notice of Meeting.

SUMMARY: In accordance with the Federal Advisory Committee Act, Public Law 92-463, as amended, the National Aeronautics and Space Administration announces a meeting of the Commercial Space Committee of the NASA Advisory Council.

DATES: Tuesday, March 30, 2010, 1 p.m.-5 p.m., EST.

ADDRESSES: NASA Headquarters, 300 E Street, SW., Glennan Conference Room, Room 1Q39, Washington DC 20546

FOR FURTHER INFORMATION CONTACT: Mr. John Emond, Office of Chief Technologist, National Aeronautics and Space Administration, Washington, DC, 20546. Phone 202-358-1686, fax: 202-358-3878, john.l.emond@nasa.gov.

SUPPLEMENTARY INFORMATION: The agenda for the meeting includes follow-on briefings and dialogue with the NASA Exploration Systems Mission Directorate and the Space Operations Mission Directorate regarding the presentations and initial discussion with the Committee that took place in the public meeting on February 16, 2010, at NASA Headquarters. These discussions will focus on budget and programmatic elements including but not limited to: Commercial spaceflight crew and cargo; space operations associated with the Space Shuttle and the International Space Station; and launch complex/launch services.

The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Commercial Space Committee meeting in the Glennan Conference Room, before receiving an access badge. All non-U.S citizens must fax a copy of their passport, and print or type their name, current address, citizenship, company affiliation (if applicable) to include address, telephone number, and their title, place of birth, date of birth, U.S. visa information to include type, number, and expiration date, U.S. Social Security Number (if applicable), and place and date of entry into the U.S., fax to Mr. John Emond, Executive Secretary, Commercial Space Committee, NASA Advisory Council, Fax: 202-358-3878, by no later than March 23, 2010. To expedite admittance, attendees with U.S. citizenship can provide identifying information 3 working days in advance by contacting Mr. John Emond via e-mail at john.l.emond@nasa.gov or by phone at 202-358-1686 or fax: 202-358-3878.

Dated: March 4, 2010.
P. Diane Rausch,
Advisory Committee Management Office, National Aeronautics and Space Administration.

[FR Doc. 2010-5022 Filed 3-9-10; 8:45 am]

BILLING CODE P